ENVIRONMENTAL PROTECTION AGENCY

40 CFR Part 300

[EPA-HQ-SFUND-2010-0636; FRL-10011-18-Region 2]

National Oil and Hazardous Substances Pollution Contingency Plan; National Priorities List: Deletion of the Hormigas Ground Water Plume Superfund Site

AGENCY: Environmental Protection Agency.

ACTION: Direct final rule.

SUMMARY: The Environmental Protection Agency (EPA) Region 2 is publishing a direct final Notice of Deletion of the Hormigas Ground Water Plume Superfund Site (Site), located in Caguas, Puerto Rico, from the National Priorities List (NPL). The NPL, promulgated pursuant to section 105 of the Comprehensive Environmental Response, Compensation, and Liability Act (CERCLA) of 1980, as amended, is an appendix of the National Oil and Hazardous Substances Pollution Contingency Plan (NCP). The EPA, with the concurrence of the Commonwealth of Puerto Rico (Commonwealth), through the Department of Natural and Environmental Resources (DNER), has determined that all appropriate response actions under CERCLA have been completed. However, this deletion does not preclude future actions under Superfund.

DATES: This direct final deletion is effective September 18, 2020 unless the EPA receives adverse comments by August 19, 2020. If adverse comments are received, the EPA will publish a timely withdrawal of the direct final deletion in the Federal Register informing the public that the deletion will not take effect.

ADDRESSES: Submit your comments, identified by Docket ID no. EPA-HQ-SFUND-2010-0636, by one of the following methods:

• https://www.regulations.gov. Follow on-line instructions for submitting comments. Once submitted, comments cannot be edited or removed from Regulations.gov. The EPA may publish any comment received to its public docket. Do not submit electronically any information you consider to be confidential business information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, the full EPA public comment policy, information about CBI or multimedia submissions, and general guidance on making effective comments, please visit https://www2.epa.gov/dockets/commenting-epa-dockets.

• Email: bosque.adalberto@epa.gov.

• Phone: Public comment by phone may be made by calling (787) 977-5819 and following the directions provided for public comment.

• Written comments submitted by mail are temporarily suspended and no hand deliveries will be accepted. We encourage the public to submit comments via https://www.regulations.gov.

Instructions: Direct your comments to Docket ID no. EPA-HQ-SFUND-2010-0636. The EPA's policy is that all comments received will be included in the public docket without change and may be made available online at https://www.regulations.gov, including any personal information provided, unless the comment includes information claimed to be CBI or other information whose disclosure is restricted by statute. Do not submit information that you consider to be CBI or otherwise protected through https://www.regulations.gov or email. The https://www.regulations.gov website is an “anonymous access” system, which means the EPA will not know your identity or contact information unless you provide it in the body of your comment. If you send an email comment directly to the EPA without going through https://www.regulations.gov, your email address will be automatically captured and included as part of the comment that is placed in the public docket and made available on the internet. If you submit an electronic comment, the EPA recommends that you include your name and other contact information in the body of your comment and with any disk or CD-ROM you submit. If the EPA cannot read your comment because of technical difficulties and cannot contact you for clarification, the EPA may not be able to consider your comment. Electronic files should avoid the use of special characters, any form of encryption, and be free of any defects or viruses.

Docket: All documents in the docket are listed in the https://www.regulations.gov index. Although listed in the index, some information is not publicly available, e.g., CBI or other information whose disclosure is restricted by statute. Certain other material, such as copyrighted material, will be publicly available only in the hard copy. Publicly available docket materials are available electronically in https://www.regulations.gov.

The EPA is temporarily suspending its Docket Center and Regional Records Centers for public visitors to reduce the risk of transmitting COVID-19. In addition, many site information repositories are closed and information in these repositories, including the deletion docket, has not been updated with hardcopy or electronic media. For further information and updates on the EPA Docket Center services, please visit us online at https://www.epa.gov/dockets.

The EPA continues to carefully and continuously monitor information from the Centers for Disease Control and Prevention (CDC), local area health departments, and our federal partners so that we can respond rapidly as conditions change regarding COVID.

FOR FURTHER INFORMATION CONTACT: Dr. Adalberto Bosque Remedial Project Manager, U.S. Environmental Protection Agency, Region 2, U.S. Environmental Protection Agency, City View Plaza II—Suite 7000, 48 RD, 165 Km. 1.2, Guaynabo, PR 00968-8069, (787) 977-5825, email: bosque.adalberto@epa.gov.

SUPPLEMENTARY INFORMATION:

Table of Contents

I. Introduction

II. NPL Deletion Criteria

III. Deletion Procedures

IV. Basis for Site Deletion

V. Deletion Action

I. Introduction

The EPA Region 2 is publishing this direct final Notice of Deletion of the Hormigas Ground Water Plume Superfund Site, from the National Priorities List (NPL). The NPL constitutes appendix B of 40 CFR part 300, which is the National Oil and Hazardous Substances Pollution Contingency Plan (NCP), which the EPA promulgated pursuant to section 105 of the Comprehensive Environmental Response, Compensation and Liability Act (CERCLA) of 1980, as amended. The EPA maintains the NPL as the list of sites that appear to present a significant risk to public health, welfare, or the environment. Sites on the NPL may be the subject of remedial actions financed by the Hazardous Substance Superfund (Fund). As described in 40 CFR 300.425(e)(3) of the NCP, sites deleted from the NPL remain eligible for Fund-financed remedial actions if future conditions warrant such actions.

Section II of this document explains the criteria for deleting sites from the NPL. Section III of this document discusses procedures that the EPA is using for this action. Section IV of this document discusses the Hormigas Ground Water Plume Superfund Site and demonstrates how it meets the deletion criteria. Section V of this document discusses the EPA's action to delete the Site from the NPL unless adverse comments are received during the public comment period.

II. NPL Deletion Criteria

The NCP establishes the criteria that the EPA uses to delete sites from the NPL. In accordance with 40 CFR 300.425(e), sites may be deleted from the NPL where no further response is appropriate. In making such a determination pursuant to 40 CFR 300.425(e), the EPA will consider, in consultation with the state, whether any of the following criteria have been met:

i. Responsible parties or other persons have implemented all appropriate response actions required;

ii. All appropriate Fund-financed response under CERCLA has been implemented, and no further response action by responsible parties is appropriate; or

iii. The remedial investigation has shown that the release poses no significant threat to public health or the environment and, therefore, the taking of remedial measures is not appropriate.

III. Deletion Procedures

The following procedures apply to deletion of the Site:

(1) The EPA consulted with the Commonwealth prior to developing this direct final Notice of Deletion and the Notice of Intent to Delete co-published today in the “Proposed Rules” section of the Federal Register.

(2) The EPA has provided the Commonwealth 30 working days for review of this document and the parallel Notice of Intent to Delete prior to their publication today, and the Commonwealth, through Department of Natural and Environmental Resources, has concurred on the deletion of the Site from the NPL.

(3) Concurrently with the publication of this direct final Notice of Deletion, a notice of the availability of the parallel Notice of Intent to Delete is being published in a major newspaper known as Primera Hora. The newspaper notice announces the 30-day public comment period concerning the Notice of Intent to Delete the Site from the NPL.

(4) The EPA placed copies of documents supporting the proposed deletion in the deletion docket and made these items available for public inspection and copying at the Site information repositories identified above.

(5) If adverse comments are received within the 30-day public comment period on this deletion action, the EPA will publish a timely document of withdrawal of this direct final Notice of Deletion before its effective date and will prepare a response to comments and continue with the deletion process on the basis of the Notice of Intent to Delete and the comments already received.

Deletion of a site from the NPL does not itself create, alter, or revoke any individual's rights or obligations. Deletion of a site from the NPL does not in any way alter the EPA's right to take enforcement actions, as appropriate. The NPL is designed primarily for informational purposes and to assist the EPA management. Section 300.425(e)(3) of the NCP states that the deletion of a site from the NPL does not preclude eligibility for future response actions, should future conditions warrant such actions.

IV. Basis for Site Deletion

The following information provides the EPA's rationale for deleting the Site from the NPL:

Site Background and History

The Hormigas Ground Water Plume Site (CERCLIS ID PRN000206359) is located between the municipalities of Caguas and Aguas Buenas in east-central Puerto Rico, within the area of two former public water supply wells, the Hormigas and Eufracia wells. Volatile organic compounds (VOCs) were detected above federal Safe Drinking Water Act Maximum Contaminant Levels (MCLs) in the Eufracia public water supply well in 2006. Groundwater samples collected and analyzed by the Puerto Rico Aqueduct and Sewer Authority from the Hormigas public water system revealed the presence of tetrachloroethene in the Eufracia public supply well at levels as high as 29 micrograms per liter (µg/L). In February 2009, the Eufracia public supply well was ordered closed by the Puerto Rico Department of Health. Subsequently, the Hormigas public supply well was also closed, thus shutting down the entire Hormigas water supply system. Currently, the community is served by the Cidra public supply system, which is located outside of the impacted area.

The Site was proposed to the NPL on October 21, 2010 (75 FR 64976) and added as final to the NPL on March 10, 2011 (76 FR 13084). The EPA added the Site to the NPL because of the VOCs that were found in groundwater that was the potable drinking water source for the Cañaboncito and Caguitas communities. The VOCs are classified as site-related contaminants because they were detected in the Eufracia public supply well at elevated levels. The EPA funded a remedial investigation (RI) to assess site conditions and evaluate alternatives, if necessary, to address those conditions and select a remedy.

Remedial Investigation and Feasibility Study (RI/FS)

During 2013-2016, the RI was performed to define the nature and extent of contamination in Site media by collecting and analyzing samples and then comparing analytical results to federal, Commonwealth, and Site-specific screening criteria. During the RI, the VOC contamination in the Eufracia well previously identified in 2006 had dissipated to such a degree that no exceedances of MCLs were noted. Furthermore, no VOC source areas were identified in soils, and no residual contaminant plume was found. The EPA concluded in the RI that the VOCs detected prior to 2010 were attributable to a highly localized, short-term release, and that natural processes within the aquifer (e.g., biodegradation and dispersion) caused the VOC residues to decrease during the intervening period when the EPA's RI was being performed. Because no Site-related contamination was found, the EPA determined that no action was necessary to protect public health or welfare or the environment. The DNER concurs with the EPA's recommendation. On September 28, 2016, a “No Action” Record of Decision was issued for the Site. No additional monitoring or operation and maintenance of a remedy is required. Five-year reviews will not be required.

On September 19 and 20, 2017, Hurricane Maria severely damaged the Commonwealth. Coming just two weeks after Hurricane Irma, the storm significantly damaged local infrastructure and interrupted the provision of essential services to the people of Puerto Rico. As part of the Commonwealth's recovery efforts, the EPA assisted by investigating for potential on-site and off-site environmental impacts and structural/physical damages from the 2017 hurricanes to existing NPL sites located in Puerto Rico. Synoptic gauging of groundwater levels was performed at the Site on October 26, 2018, to support evaluation of hydrogeologic impacts as a result of the hurricanes. One round of sampling was performed from October 27 to 31, 2018, with samples collected from the former public supply wells (the Hormigas and Eufracia wells) and two wells the EPA had installed as part of the RI. Post-Hurricane Maria VOC results revealed that concentrations of site-related contaminants remained consistent with previous sampling results conducted during the RI.

Community Involvement

Public participation activities for the Site have been satisfied as required pursuant to sections 113(k) and 117 of CERCLA, 42 U.S.C. 9613(k) and 9617. As part of the remedy selection process in 2016, the public was invited to comment on the proposed “No Action” remedy. All other documents and information that the EPA relied on or considered in recommending this deletion are available for the public to review at the information repositories identified above and at the EPA's website for the Site: https://www.epa.gov/superfund/hormigas-ground-water-plume. The public is provided the opportunity to comment on this proposed action.

Determination That the Site Meets the Criteria for Deletion in the NCP

The EPA, with the concurrence of the Commonwealth through the DNER, has determined that no further response is appropriate. The criteria for deletion from the NPL, as set forth at 40 CFR 300.425(e), are met. A RI/FS has shown that the release poses no significant threat to public health or the environment, and, therefore, taking remedial measures are not appropriate. The Commonwealth, through the DNER in a December 19, 2019 letter, concurred with the proposed deletion of the Site from the NPL.

V. Deletion Action

The EPA, with concurrence of the Commonwealth through the DNER, has determined that no further response action under CERCLA is appropriate. Therefore, the EPA is deleting the Site from the NPL.

Because EPA considers this action to be noncontroversial and routine, the EPA is taking it without prior publication. This action will be effective September 18, 2020 unless the EPA receives adverse comments by August 19, 2020. If adverse comments are received within the 30-day public comment period, the EPA will publish a timely withdrawal of this direct final notice of deletion before the effective date of the deletion, and it will not take effect. The EPA will prepare a response to comments and continue with the deletion process on the basis of the notice of intent to delete and the comments already received. There will be no additional opportunity to comment.

List of Subjects in 40 CFR Part 300

Environmental protection, Air pollution control, Chemicals, Hazardous substances, Hazardous waste, Intergovernmental relations, Penalties, Reporting and recordkeeping requirements, Superfund, Water pollution control, Water supply.

Peter Lopez,
Regional Administrator, Region 2.

For the reasons set out in the preamble, 40 CFR part 300 is amended as follows:

PART 300—NATIONAL OIL AND HAZARDOUS SUBSTANCES POLLUTION CONTINGENCY PLAN

1. The authority citation for part 300 continues to read as follows:

Authority: 33 U.S.C. 1251 et seq.

Appendix B to Part 300—[Amended]

2. Table 1 of appendix B to part 300 is amended by removing the entry “PR”, “Hormigas Ground Water Plume”, “Caguas”.

[FR Doc. 2020-15644 Filed 7-17-20; 8:45 am]

BILLING CODE 6560-50-P